DEPARTMENT OF COMMERCE

National Oceanic and Atmospheric Administration

RIN 0648-XD296

Endangered Species; File No. 18604

AGENCY: National Marine Fisheries Service (NMFS), National Oceanic and Atmospheric Administration (NOAA), Commerce.

ACTION: Notice; receipt of application.

SUMMARY: Notice is hereby given that the Guam Department of Agriculture Division of Aquatic and Wildlife Resources (DAWR), 163 Dairy Road, Mangilao, Guam 96913, has applied in due form for a permit to take green (Chelonia mydas) and hawksbill (Eretmochelys imbricata) sea turtles for purposes of scientific research.

DATES: Written, telefaxed, or email comments must be received on or before June 19, 2014.

ADDRESSES: The application and related documents are available for review by selecting “Records Open for Public Comment” from the Features box on the Applications and Permits for Protected Species (APPS) home page, https://apps.nmfs.noaa.gov, and then selecting File No. 18604 from the list of available applications.

These documents are also available upon written request or by appointment in the following offices:

Permits and Conservation Division, Office of Protected Resources, NMFS, 1315 East-West Highway, Room 13705, Silver Spring, MD 20910; phone (301) 427-8401; fax (301) 713-0376; and

Pacific Islands Region, NMFS, 1845 Wasp Blvd., Building 176, Honolulu, HI 96818; phone (808) 725-5000; fax (808) 973-2941.

Written comments on this application should be submitted to the Chief, Permits and Conservation Division:

• By email to NMFS.Pr1Comments@noaa.gov (include the File No. in the subject line of the email),

• by facsimile to (301) 713-0376, or

• at the address listed above.

Those individuals requesting a public hearing should submit a written request to the Chief, Permits and Conservation Division at the address listed above. The request should set forth the specific reasons why a hearing on this application would be appropriate.

FOR FURTHER INFORMATION CONTACT: Amy Hapeman or Courtney Smith, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The applicant requests a five-year research permit to gather information on green and hawksbill sea turtle movement, species distribution, and health status and to document threats to the species. Researchers would annually capture and release 15 green and 6 hawksbill sea turtles by hand or by net in Guam waters. Turtles would be measured, flipper tagged, photographed, passive integrated transponder tagged, tissue sampled, and released. A subset of each species also would have a satellite transmitter attached to the turtle's carapace. This information would be used to develop conservation management measures for these species.

Dated: May 15, 2013.
Tammy C. Adams,
Chief, Permits and Conservation Division, Office of Protected Resources, National Marine Fisheries Service.

[FR Doc. 2014-11603 Filed 5-19-14; 8:45 am]

BILLING CODE 3510-22-P